FEDERAL COMMUNICATIONS COMMISSION

Meeting Notice Correction

AGENCY: Federal Communications Commission.

ACTION: Notice of meeting correction.

SUMMARY: The Federal Communications Commission published a document in the Federal Register on January 26, 2001 announcing a meeting of the Network Reliability and Interoperability Council to be held on Tuesday, February 27, 2001 (See FCC Public Announcement DA 01-294). The document incorrectly specified that February 27 was a Wednesday.

FOR FURTHER INFORMATION CONTACT: Robert Kimball at 202-418-2339 or TTY 202-418-2989.

CORRECTION: In the Federal Register of January 26, 2001 in FR document 01-2284, on page 7911, in the third column, correct the Dates caption to read:

DATES: Tuesday, February 27, 2001 at 2 p.m. to 4 p.m.

Federal Communications Commission.
Rebecca Dorch,
Deputy Chief, Office of Engineering and Technology.

[FR Doc. 01-4724 Filed 2-26-01; 8:45 am]

BILLING CODE 6712-01-U